DEPARTMENT OF ENERGY

Federal Energy Regulatory Commission

[Docket No. GT02-18-000]

CMS Trunkline Gas Company, LLC; Notice of Proposed Changes in FERC Gas Tariff

May 7, 2002.

Take notice that on April 30, 2002, CMS Trunkline Gas Company, LLC (Trunkline) tendered for filing as part of its FERC Gas Tariff, Second Revised Volume No. 1, the following revised tariff sheets to be effective June 1, 2002:

First Revised Sheet No. 5

First Revised Sheet No. 6

First Revised Sheet No. 7

First Revised Sheet No. 8

First Revised Sheet No. 9

Trunkline states that the purpose of this filing, made in accordance with the provisions of section 154.106 of the Commission's Regulations, is to revise the tariff maps to reflect changes in the pipeline facilities and the points at which service is provided. Trunkline requests confidential treatment of its maps. As such, only the Commission is receiving a hard copy of the revised tariff sheets that display the system maps in the original filing. The tariff sheets in the copies of the filing will identify the map and state that information has been removed for privileged treatment. Interested parties may request a copy of the confidential tariff sheets in accordance with section 388.108 of the Commission's regulations. Trunkline's shippers may contact Trunkline directly to request copies of the tariff map sheets.

Trunkline states that copies of the public portion of this filing are being served on all affected customers and applicable state regulatory agencies.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-11840 Filed 5-10-02; 8:45 am]

BILLING CODE 6717-01-P